NATIONAL AERONAUTICS AND SPACE ADMINISTRATION

[Notice (00-140)]

NASA Advisory Committee; Notice of Establishment

AGENCY: National Aeronautics and Space Administration (NASA).

The Administrator of the National Aeronautics and Space Administration has determined that the establishment of a Planetary Protection Advisory Committee is necessary and in the public interest in connection with the performance of duties imposed upon NASA by law. This determination follows consultation with the Committee Management Secretariat, General Services Administration.

Name of Committee: Planetary Protection Advisory Committee.

Purpose and Objective: Primarily to advise on Agency programs, policies, plans and other matters pertaining to NASA's responsibilities for planetary protection. These responsibilities for planetary protection are outlined in NASA Policy Directive 8020.7E, “Biological Contamination Control for Outbound and Inbound Planetary Spacecraft.” The Committee will provide a forum for advice on interagency coordination and intergovernmental planning related to planetary protection. Additionally, the Committee will review and recommend appropriate planetary protection categorizations for all bodies of the solar system to which spacecraft will be sent.

Balanced Membership Plans: The Committee will consist of 15 to 20 members selected to ensure a balanced representation among industry, academia, and Government with recognized knowledge and expertise in scientific, technological, and programmatic fields relevant to planetary protection. These programmatic fields include: astrobiology, planetary materials and environments, engineering risk analysis, risk management, risk communication, microbial ecology, molecular biology, biological containment, science/technology, science ethics, applicable law, and public health.

Duration: Continuing.

Responsible NASA Official: Dr. John D. Rummel, Planetary Protection Officer, Office of Space Science, National Aeronautics and Space Administration, 300 E Street, SW., Washington, DC 20546, telephone 202/358-0702.

Dated: December 4, 2000.
Beth M. McCormick,
Advisory Committee Management Officer, National Aeronautics and Space Administration.

[FR Doc. 00-31286 Filed 12-7-00; 8:45 am]

BILLING CODE 7510-01-U